SMALL BUSINESS ADMINISTRATION

Meeting of the Advisory Committee on Veterans Business Affairs

AGENCY: U.S. Small Business Administration.

ACTION: Notice of open Federal Advisory Committee Meeting.

SUMMARY: The U.S. Small Business Administration (SBA) is issuing this notice to announce the location, date, time, and agenda for the next meeting of the Advisory Committee on Veterans Business Affairs. The meeting is open to the public.

DATES: Thursday, June 7, 2018, from 9:00 a.m. to 4:00 p.m.

Where: Eisenhower Conference Room B, located on the concourse level.

Contact Info: (Teleconference Dial-in) 1-888-858-2144, Access Code: 7805798; (Webinar) https://connect16.uc.att.com/sba/meet/?ExEventID=87805798; Access Code: 7805798.

SUPPLEMENTARY INFORMATION: Pursuant to section 10(a)(2) of the Federal Advisory Committee Act (5 U.S.C., Appendix 2), SBA announces the meeting of the Advisory Committee on Veterans Business Affairs (ACVBA). The ACVBA is established pursuant to 15 U.S.C. 657(b) note, and serves as an independent source of advice and policy. The purpose of this meeting is to focus on strategic planning, updates on past and current events, and the ACVBA's objectives for 2018.

Additional Information: This meeting is open to the public. Advance notice of attendance is requested. Anyone wishing to attend and/or make comments to the ACVBA must contact SBA's Office of Veterans Business Development no later than June 1, 2018 at veteransbusiness@sba.gov. Comments for the record will be limited to five minutes to accommodate as many participants as possible. Written comments should be sent to the above by June 1, 2018. Special accommodation requests should also be directed to SBA's Office of Veterans Business Development at (202) 205-6773 or veteransbusiness@sba.gov.

For more information on veteran owned small business programs, please visit www.sba.gov/veterans.

Dated: May 3, 2018.
John Woodard,
SBA Committee Management Officer.

[FR Doc. 2018-09824 Filed 5-8-18; 8:45 am]

BILLING CODE P